DEPARTMENT OF LABOR

Employment and Training Administration

[TA-W-58,762]

Agilent Technologies, Inc.; Global Financial Services Division; Colorado Springs, CO; Notice of Revised Determination on Reconsideration

By application dated March 21, 2006, a petitioner requested administrative reconsideration of the Department's negative determination regarding eligibility for workers and former workers of the subject firm to apply for Trade Adjustment Assistance (TAA) and Alternative Trade Adjustment Assistance (ATAA). The negative determination applicable to workers of Agilent Technologies, Inc., Global Financial Services Division, Colorado Springs, Colorado was signed on February 16, 2006. The Department's Notice of determination was published in the Federal Register on March 10, 2006 (71 FR 12397). The subject workers provide accounting and financial services.

The Department's determination was issued on the findings that the workers do not produce an article and do not directly support production which took place at the subject facility.

In the request for reconsideration, the petitioner asserts that the subject workers support production in three divisions of Agilent Technologies, Inc. (subject firm): Test and Measurement, Life Sciences, and Semi-Conductor Test Solutions. Supplemental information reveals that a significant portion of subject firm operations is related to the Test and Measurement Group.

On September 30, 2005, the subject facility was certified for TAA and ATAA (Agilent Technologies, Inc., Electronic Measurement Group, Colorado Springs, Colorado (TA-W-57,742G).

In previously-submitted material, a subject firm official stated that the subject workers did not support the production of a specific article, but provided administrative support for the entire subject firm, including affiliated facilities producing electronic test equipment. The material also indicated that a significant portion of the subject worker group was separated or threatened with separation during the relevant period.

Because the Department does not discern any significant differences between the workers covered in TA-W-57,742G and the subject worker group, the Department determines that, during the relevant period, the subject workers are engaged in activity supporting production, that the facilities they support shifted production abroad, and that there are likely import increases of articles like or directly competitive with those produced by the subject firm (electronic testing equipment).

In accordance with Section 246 the Trade Act of 1974, as amended, the Department herein presents the results of its investigation regarding certification of eligibility to apply for ATAA for older workers. In order for the Department to issue a certification of eligibility to apply for ATAA, the group eligibility requirements of Section 246 of the Trade Act, as amended, must be met.

The Department has determined in this case that the requirements of Section 246 have been met.

A significant number of workers at the firm are age 50 or over and possess skills that are not easily transferable. Competitive conditions within the industry are adverse.

Conclusion

After careful review of the information obtained in the reconsideration investigation, I determine that a shift of production abroad followed by increased imports of electronic measurement equipment like or directly competitive with those produced by the firm contributed importantly to separations at the subject facility. In accordance with the provisions of the Act, I make the following certification:

“All workers of Agilent Technologies, Inc., Global Financial Services Division, Colorado Springs, Colorado, who became totally or partially separated from employment on or after January 31, 2005, through two years from the date of this certification, are eligible to apply for adjustment assistance under Section 223 of the Trade Act of 1974, and are eligible to apply for alternative trade adjustment assistance under Section 246 of the Trade Act of 1974.”

Signed in Washington, DC, this 31st day of May 2006.
Elliott S. Kushner,
Certifying Officer, Division of Trade Adjustment Assistance.

[FR Doc. E6-9011 Filed 6-8-06; 8:45 am]

BILLING CODE 4510-30-P